DEPARTMENT OF ENERGY

Federal Energy Regulatory Commission

[Docket No. AC03-29-000, et al.]

Gulf South Pipeline Co. L.P., et al.; Electric Rate and Corporate Filings

March 19, 2003.

The following filings have been made with the Commission. The filings are listed in ascending order within each docket classification.

1. Gulf South Pipeline Co., L.P.

[Docket No. AC03-29-000]

Take notice that on March 11, 2003, Gulf South Pipeline Company, L.P. (Gulf South) filed with the Federal Energy Regulatory Commission (Commission) a letter requesting approval of Pro forma Journal Entries that would be recorded in connection with a sale of gas from volumes included in Account 117.2, System Balancing Gas.

Comment Date: April 1, 2003.

2. TRANSLink Transmission Company, L.L.C.

[Docket Nos. EC01-156-004 and ER01-3154-004]

Take notice that on March 13, 2003, TRANSLink Development Company, L.L.C. (TRANSLink) tendered for filing with the Federal Energy Regulatory Commission (Commission) a compliance filing pursuant to the Commission's April 25, 2002 order issued in the above-referenced proceedings (99 FERC ¶ 61,106) and its November 1, 2002 order (101 FERC ¶ 61,140).

Comment Date: April 3, 2003.

3. Allegheny Energy Supply Conemaugh, LLC UGI Development Company

[Docket No. EC03-66-000]

Take notice that on March 13, 2003, Allegheny Energy Supply Conemaugh, LLC (Conemaugh) and UGI Development Company (UGI) (together, the Applicants) filed a joint application for disposition of jurisdictional facilities under Section 203 of the Federal Power Act. The Applicants request Commission approval for Conemaugh to sell and UGI to acquire Conemaugh's 4.86% tenant-in-common share of the Conemaugh generating facility, located in Indiana County, Pennsylvania.

Comment Date: April 3, 2003.

4. TransCanada PipeLines Limited

[Docket No. EC03-67-000]

Take notice that on March 14, 2003, TransCanada PipeLines Limited (TransCanada) filed with the Federal Energy Regulatory Commission (the Commission) an Application pursuant to Section 203 of the Federal Power Act for authorization of the disposition of jurisdictional facilities that may occur from a corporate reorganization implementing a holding company structure for TransCanada.

Comment Date: April 3, 2003.

5. PSEG Power Connecticut LLC

[Docket No. EG03-25-000]

Take notice that on March 14, 2003, PSEG Power Connecticut LLC (Applicant), having its principal place of business at 80 Park Plaza, T-16, Newark, NJ 07102, filed with the Federal Energy Regulatory Commission (FERC or the Commission) a third amendment to its December 4, 2002 application for determination of exempt wholesale generator (EWG) status pursuant to part 365 of the Commission's regulations. The amendment proposes an alternative to certain activities incidental to the generation of electricity for sale at wholesale.

The Applicant states that it is engaged, directly or indirectly through an affiliate as defined in section 2(a)(11)(B) of the Public Utility Holding Company Act of 1935 (PUHCA), exclusively in owning or owning and operating eligible electric facilities and participating in certain other activities incidental to such eligible electric facilities as authorized under PUHCA. The Applicant further states that it owns and operates eligible facilities located in Connecticut.

Comment Date: April 9, 2003.

6. Reliant Energy Choctaw County, LLC

[Docket No. EG03-45-000]

Take notice that on March 14, 2003, Reliant Energy Choctaw County, LLC (Reliant Choctaw) filed its application for a determination that it will be an exempt wholesale generator within the meaning of Section 32(a)(1) of Public Utility Holding Company Act (Application).

Comment Date: April 9, 2003.

7. Hunterstown Trust

[Docket No. EG03-46-000]

Take notice that on March 14, 2003, Hunterstown Trust filed its application for a determination that it will be an exempt wholesale generator within the meaning of Section 32(a)(1) of Public Utility Holding Company Act (Application).

Comment Date: April 9, 2003.

8. Meyersdale Windpower, LLC

[Docket No. EG03-48-000]

Take notice that on March 13, 2003, Meyersdale Windpower, LLC (Applicant) filed with the Federal Energy Regulatory Commission (Commission) an Application for Determination of Exempt Wholesale Generator Status pursuant to part 365 of the Commission's regulations.

Applicant states that it is developing a wind-powered eligible facility with a capacity of up to 48 megawatts, powered by up to 32 wind turbine generators, which will be located in Somerset County, Pennsylvania.

Comment Date: April 9, 2003.

9. Northern Indiana Public Service Company

[Docket No. ER96-399-003]

Take notice that on March 17, 2003, Northern Indiana Public Service Company (Northern Indiana) filed revised tariff sheets as part of its FERC Electric Tariff, First Revised Volume No. 5. Northern Indiana states that the revised tariff sheets are submitted in compliance with the order issued by the Commission on December 30, 2002 (101 FERC ¶ 61, 397).

Northern Indiana states that copies of this filing have been sent to all parties on the Commission's official service list.

Comment Date: April 7, 2003.

10. Tiverton Power Associates Limited Partnership

[Docket No. ER00-1171-001]

Take notice that on March 17, 2003, Tiverton Power Associates Limited Partnership submitted for filing its triennial market analysis update in compliance with the Commission Order issued in Docket No. ER00-1171-000 on March 16, 2000.

Comment Date: April 7, 2003.

11. Westar Generating, Inc.

[Docket No. ER01-1305-007]

Take notice that on March 17, 2003, Westar Generating, Inc. (WG) submitted for filing a revised Original Substitute Sheet No. 22 of Rate Schedule FERC No. 1, Purchase Power Agreement between WG and Westar Energy, Inc. (WE). WG states that the purpose of this revision is to change certain language with respect to WE's purchase option for WG's ownership interest in the State Line combined-cycle generating project. WG is requesting an effective date of March 17, 2003.

WG states that copies of the filing was served upon WE and the Kansas Corporation Commission.

Comment Date: April 7, 2003.

12. Westar Energy, Inc.

[Docket No. ER03-172-001]

Take notice that on March 17, 2003, Westar Energy, Inc. (Westar) submitted for filing the FERC Electric Tariff, Volume No. 7 in response to the Commission's Order in Docket No. ER03-172-000. This filing submits the previously accepted WRC pricing schedule as an appropriate FERC tariff. The tariff is proposed to be effective on October 31, 2002. Westar also filed a blank conforming service agreement as part of the proposed tariff. Westar states that each of the three customers' contracts, under the proposed tariff, conforms to the service agreement being submitted.

Westar states that a copy of this filing was served upon the Kansas Corporation Commission, Kaw Valley Electric Cooperative, Nemaha-Marshall Electric Cooperative Association, Inc. and Doniphan Electric Cooperative.

Comment Date: April 7, 2003.

13. Arizona Public Service Company

[Docket No. ER03-616-000]

Take notice that on March 14, 2003, Arizona Public Service Company (APS) tendered for filing a revised Contract Demand Exhibit for Southern California Edison (SCE) applicable under the APS-FERC Rate Schedule No. 120.

APS states that copies of this filing have been served on SCE, the California Public Utilities Commission and the Arizona Corporation Commission.

Comment Date: April 4, 2003.

14. California Independent System Operator Corporation

[Docket No. ER03-617-000]

Take notice that on March 14, 2003, the California Independent System Operator Corporation (ISO) filed First Revised Service Agreement No. 445, which is a Participating Generator Agreement (PGA) between the ISO and Energia de Baja California, S. de R.L. de C.V. (EdBC). The PGA has been revised to update Schedule 1 of the PGA. The ISO requests that the PGA be made effective as of February 3, 2003.

The ISO states it has served copies of this filing upon EdBC and all entities that are on the official service list for Docket No. ER02-2009-000.

Comment Date: April 4, 2003.

15. Reliant Energy Choctaw County, LLC

[Docket No. ER03-618-000]

Take notice that on March 14, 2003 Reliant Energy Choctaw County, LLC (Reliant Choctaw) petitioned the Federal Energy Regulatory Commission (Commission) to grant certain blanket authorizations, to waive certain of the Commission's Regulations and to issue an order accepting Reliant Choctaw's FERC Electric Rate Schedule No. 1. Reliant Choctaw requested that the Commission approve its applicant on an expedited basis.

Comment Date: April 1, 2003.

16. PECO Energy Company

[Docket No. ER03-619-000]

Take notice that on March 14, 2003 PECO Energy Company (PECO) submitted for filing: (1) First Revised Sheet Nos. 59 and 60 to the Interconnection Agreement between PECO and Exelon Generation for the Chester Generating Station designated as First Revised Rate Schedules FERC No. 124; (2) First Revised Sheet Nos. 62 and 63 superseding Original Sheet Nos. 62 and 63 to the Interconnection Agreement between PECO and Exelon Generation Company (Exelon Generation) for the Cromby Generating Station designated as First Revised Rate Schedule FERC No. 126; (3) First Revised Sheet Nos. 58, 59, and 60 to the Interconnection Agreement between PECO and Exelon Generation for the Croydon Generating Station designated as First Revised Rate Schedule FERC No. 127; (4) First Revised Sheet Nos. 61 and 62 superseding Original Sheet Nos. 61 and 62 to the Interconnection Agreement between PECO and Exelon Generation for the Delaware Generating Station designated as First Revised Rate Schedule FERC No. 128; and (5) First Revised Sheet Nos. 64 and 65 superseding Original Sheet Nos. 64 and 65 to the Interconnection Agreement between PECO and Exelon Generation for the Schuylkill Generating Station designated as First Revised Rate Schedule FERC No. 137. These pages were revised to address the installation of new metering equipment at the generation stations.

PECO states that copies of this filing were served on Exelon Generation and PJM Interconnection, L.L.C.

Comment Date: April 4, 2003.

17. Florida Power Corporation

[Docket No. ER03-620-000]

Take notice that on March 14, 2003, Florida Power Corporation (FPC) refiled the executed Shady Hills Facility Parallel Operation Agreement between FPC and Florida Power & Light Company. FPC is requesting an effective date of December 18, 2002 for this Rate Schedule.

FPC states that a copy of the filing was served upon the Florida Public Service Commission and the North Carolina Utilities Commission.

Comment Date: April 4, 2003.

18. Inland Power & Light Company

[Docket No. ER03-621-000]

Take notice that on March 14, 2003, Inland Power & Light Company filed a Notice of Cancellation of its Rate Schedule FERC No. 3.

Comment Date: April 4, 2003.

19. Capital Power, Inc.

[Docket No. ER03-622-000]

Take notice that on March 14, 2003, Capital Power, Inc. (Capital), petitioned the Federal Energy Regulatory Commission (Commission) for acceptance of Capital Rate Schedule FERC No. 1; the granting of certain blanket approvals, including the authority to sell electricity at market-based rates; and the waiver of certain Commission regulations.

Comment Date: April 4, 2003.

20. Jamaica Bay Peaking Facility, LLC

[Docket No. ER03-623-000]

Take notice that on March 14, 2003, Jamaica Bay Peaking Facility, LLC (Jamaica Bay) tendered for filing an application for authorization to sell wholesale power at market-based rates, and certain ancillary services at market-based rates into the New York market.

Jamaica Bay states that copies of this filing have been served on the New York State Public Service Commission, the Long Island Power Authority, and the Florida Public Service Commission.

Comment Date: April 4, 2003.

21. Calpine Construction Finance Company, L.P.

[Docket No. ER03-624-000]

Take notice that on March 17, 2003, Calpine Construction Finance Company, L.P., tendered for filing, under section 205 of the Federal Power Act, a rate schedule for Reactive Power from the Ontelaunee Energy Center.

Comment Date: April 7, 2003.

22. Allegheny Power

[Docket No. ER03-625-000]

Take notice that on March 17, 2003, Allegheny Power (Allegheny) submitted for filing an executed Interconnection and Operating Agreement (Agreement) with Industrial Power Generating Corporation (Ingenco). Allegheny requests an effective date of March 15, 2003 for the Agreement and accordingly seeks waiver of the Commission's notice requirements.

Allegheny states that copies of the filing were served on Ingenco and on interested state commissions.

Comment Date: April 7, 2003.

23. Empire District Electric Company

[Docket No. ER03-626-000]

Take notice that on March 17, 2003, The Empire District Electric Company (Empire) filed certain changes to an existing agreement for wholesale requirements service to four municipal utilities customers currently on file with the FERC as Empire Wholesale Electric Service Schedule W-1 (Schedule W-1).

Empire states that copies of this filing were served on all customers under Schedule W-1 and on all affected state commissions.

Comment Date: April 7, 2003.

Standard Paragraph

Any person desiring to intervene or to protest this filing should file with the Federal Energy Regulatory Commission, 888 First Street, NE., Washington, DC 20426, in accordance with rules 211 and 214 of the Commission's rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-7175 Filed 3-25-03; 8:45 am]

BILLING CODE 6717-01-P